DEPARTMENT OF ENERGY

Federal Energy Regulatory Commission

Sunshine Act Meeting

The following notice of meeting is published pursuant to section 3(a) of the government in the Sunshine Act (Pub. L. 94-409), 5 U.S.C. 552b:

AGENCY HOLDING MEETING: Federal Energy Regulatory Commission.

DATE AND TIME: December 19, 2019, 10:00 a.m.

PLACE: Room 2C, 888 First Street NE, Washington, DC 20426.

STATUS: Open.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1062th—Meeting
[Open Meeting; December 19, 2019; 10:00 a.m.]
Item No. | Docket No. | Company
ADMINISTRATIVE
A-1 | AD20-1-000 | Agency Administrative Matters.
A-2 | AD20-2-000 | Customer Matters, Reliability, Security and Market Operations.
ELECTRIC
E-1 | EL16-49-000, EL18-178-000, (Consolidated) | Calpine Corporation, Dynegy Inc., Eastern Generation, LLC, Homer City Generation, L.P., NRG Power Marketing LLC, GenOn Energy Management, LLC, Carroll County Energy LLC, C.P. Crane LLC, Essential Power, LLC, Essential Power OPP, LLC, Essential Power Rock Springs, LLC, Lakewood Cogeneration, L.P., GDF SUEZ Energy Marketing NA, Inc., Oregon Clean Energy, LLC and Panda Power Generation Infrastructure Fund, LLC v. PJM Interconnection, L.L.C.
E-2 | OMITTED
E-3 | OMITTED
E-4 | OMITTED
E-5 | ER19-1959-000 | Avista Corporation.
E-6 | ER19-1507-004 | Duke Energy Carolinas, LLC, Duke Energy Progress, LLC, and Duke Energy Florida, LLC.
E-7 | ER19-1823-001, ER19-1960-000 | Midcontinent Independent System Operator, Inc.
E-8 | ER19-1948-000, ER19-1948-001 | PacifiCorp.
E-9 | ER19-1958-000 | PJM Interconnection, L.L.C.
E-10 | ER19-1955-000, ER19-1955-001 | Public Service Company of New Mexico.
E-11 | ER19-1864-001 | Public Service Company of Colorado.
E-12 | ER19-1957-000, ER19-1957-001 | Alabama Power Company.
E-13 | ER19-467-000, ER19-467-001, ER19-467-002 | New York Independent System Operator, Inc.
E-14 | RM01-8-012 | Revised Public Utility Filing Requirements for Electric Quarterly Reports.
E-15 | AC19-75-000 | Duke Energy Corporation.
E-16 | EC19-100-000 | Tucson Electric Power Company.
E-17 | ER20-227-000 | PJM Interconnection, L.L.C., Jersey Central Power & Light Company.
E-18 | EL15-68-003, EL15-68-004 | Midcontinent Independent System Operator, Inc.
| EL15-36-003, EL15-36-004 | Otter Tail Power Company v. Midcontinent Independent System Operator, Inc.
| ER16-696-004, ER16-696-005, ER18-2513-000 | Midcontinent Independent System Operator, Inc.
E-19 | ER19-2488-000 | GridLiance Heartland LLC, GridLiance High Plains LLC, and GridLiance West LLC.
E-20 | ER20-153-000 | Exelon Corporation.
E-21 | ER13-535-005 | PJM Interconnection, L.L.C.
E-22 | EL19-11-001 | American Wind Energy Association and The Wind Coalition v. Southwest Power Pool, Inc.
| ER19-2522-000, ER19-2523-000 | Southwest Power Pool, Inc.
E-23 | ER17-905-002 | New York Independent System Operator, Inc. PJM Interconnection, L.L.C.
E-24 | EL19-39-001 | Light Power & Gas of NY LLC v. New York Independent System Operator, Inc.
E-25 | EL18-189-000 | Independent Power Producers of New York, Inc. v. New York Independent System Operator, Inc.
E-26 | EL19-27-000 | Independent Market Monitor for PJM Interconnection, L.L.C. v. PJM Interconnection, L.L.C.
E-27 | EL05-121-013, ER18-2102-000, ER18-2102-001 | PJM Interconnection, L.L.C.
E-28 | EL15-95-005 | Delaware Public Service Commission and Maryland Public Service Commission v. PJM Interconnection, L.L.C. and Certain Transmission Owners Designated under CTOA RS FERC No. 42.
| ER19-1501-000 | PJM Interconnection, L.L.C. and PECO Energy Company.
GAS
G-1 | RP19-1598-000 | Castex Offshore, Inc., EnVen Energy Ventures, LLC, Fieldwood Energy LLC, M21K, LLC, and W&T Offshore, Inc. v. Stingray Pipeline Company, L.L.C.
G-2 | RP20-216-000, RP20-216-001 | Trailblazer Pipeline Company LLC.
G-3 | RP16-618-000, RP16-618-001 | Algonquin Gas Transmission, LLC.
HYDRO
H-1 | P-2829-005, P-2829-010 | City of Loveland, Colorado.
H-2 | P-12569-018 | Public Utility District No. 1 of Okanogan County, Washington.
CERTIFICATES
C-1 | CP19-191-000 | Texas Eastern Transmission, LP.
C-2 | CP19-31-000 | Southern Star Central Gas Pipeline, Inc.
C-3 | CP18-548-000 | Eastern Shore Natural Gas Company.
C-4 | CP19-26-000 | Dominion Energy Transmission, Inc.
C-5 | CP18-46-000, CP18-46-001 | Adelphia Gateway, LLC.
C-6 | CP19-7-000 | Tennessee Gas Pipeline Company, L.L.C.

Issued: December 12, 2019.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2019-27324 Filed 12-13-19; 4:15 pm]

BILLING CODE 6717-01-P